Title 3—

The President

Proclamation 9224 of December 31, 2014

National Mentoring Month, 2015

By the President of the United States of America

A Proclamation

In a Nation of limitless possibility, every child deserves the chance to unlock his or her potential. When young Americans have the support they need to make the most of themselves, they can achieve their dreams and strengthen our country, which has always moved forward by extending ladders of opportunity to the next generation. Every day, mentors play a vital role in this national mission by helping to broaden the horizons for our daughters and sons. This month, we celebrate these individuals who make it their cause to bring out the best in our young people, and we salute their spirit of service.

Mentors and caring adults serve as essential sources of inspiration, lifting up young people and positioning them to build the America of tomorrow. That is why my Administration continues to expand opportunities for mentoring and support the individuals who enable our future leaders. We are working with businesses to increase apprenticeship programs and connect groups traditionally underrepresented in science, technology, engineering, and math fields with role models in STEM careers. First Lady Michelle Obama's Reach Higher initiative is encouraging campus groups and college students to connect with high schoolers and other near-peers who do not always see themselves completing higher education. Earlier this year, I also launched My Brother's Keeper, an initiative that recognizes our responsibility to reach every young person regardless of who they are or where they come from.

Every American shares in the obligation to widen the circle of opportunity for our young people. Our neighbors' children are our children—and our country must show them we care about and value their boundless potential. At the White House, the First Lady and I started mentoring initiatives, pairing local students with accomplished and caring professionals, and I am proud that members of my Administration are leading by example. To find ways to give back in your local community and participate in these critical, life-changing moments, I encourage all Americans to visit www.Serve.gov/Mentor.

The sense of dedication displayed by all those who invest their time and energy in mentoring reminds us that if we work together, we can ensure there are no limits to what young Americans can achieve. During National Mentoring Month, we honor all those who give of themselves to guide our young people, and we renew our commitment to realizing a future of opportunity for all.

NOW, THEREFORE, I, BARACK OBAMA, President of the United States of America, by virtue of the authority vested in me by the Constitution and the laws of the United States, do hereby proclaim January 2015 as National Mentoring Month. I call upon public officials, business and community leaders, educators, and Americans across the country to observe this month with appropriate ceremonies, activities, and programs.

IN WITNESS WHEREOF, I have hereunto set my hand this thirty-first day of December, in the year of our Lord two thousand fourteen, and of the Independence of the United States of America the two hundred and thirty-ninth.

[FR Doc. 2015-00068

Filed 1-6-15; 8:45 am]

Billing code 3295-F5